DEPARTMENT OF HEALTH AND HUMAN SERVICES

National Institutes of Health

Center for Scientific Review; Amended Notice of Meeting

Notice is hereby given of a change in the meeting of the Genetic Variation and Evolution Study Section, February 16, 2017, 08:00 a.m. to February 17, 2017, 07:00 p.m., Renaissance M Street Hotel, 1143 New Hampshire Avenue NW., Washington, DC 20037 which was published in the Federal Register on January 23, 2017, 82 FR 7842.

The meeting will be held on 02/17/2017 instead of 02/16/2017-02/17/2017. The meeting time and location remains the same. The meeting is closed to the public.

Dated: February 9, 2017.
David Clary,
Program Analyst, Office of Federal Advisory Committee Policy.

[FR Doc. 2017-03013 Filed 2-14-17; 8:45 am]

BILLING CODE 4140-01-P